DEPARTMENT OF HEALTH AND HUMAN SERVICES

Administration for Children and Families

Family and Youth Services Bureau Administration on Children, Youth and Families

Funding Opportunity Title: Community-Based Abstinence Education.

Announcement Type: Initial.

Funding Opportunity Number: HHS-2005-ACF-ACYF-AE-0099.

CFDA Number: 93.010.

Due Date for Applications: June 20, 2005.

Executive Summary: The Family and Youth Services Bureau (FYSB) is accepting applications to provide support to public and private entities for the development and implementation of the Community-Based Abstinence Education Program for adolescents, ages 12 through 18, in communities across the country. This funding opportunity targets the implementation of community-based abstinence educational programs designed to: (a) Reduce the proportion of adolescents who engage in premarital sexual activity, including but not limited to sexual intercourse; (b) reduce the incidence of out-of-wedlock pregnancies among adolescents; and (c) reduce the incidence of sexually transmitted diseases among adolescents. Priority funding will be given to those entities that demonstrate a strong record of providing abstinence education among adolescents as defined by Section 510(b)(2) of Title V of the Social Security Act, which promotes a strong abstinence until marriage message to youth.

Priority Area 1

I. Funding Opportunity Description

The Family and Youth Services Bureau (FYSB) is accepting applications to provide support to public and private entities for the development and implementation of the Community-Based Abstinence Education Program for adolescents, ages 12 through 18, in communities across the country. This funding opportunity targets the implementation of community-based abstinence educational programs designed to: (a) Reduce the proportion of adolescents who engage in premarital sexual activity, including but not limited to sexual intercourse; (b) reduce the incidence of out-of-wedlock pregnancies among adolescents; and (c) reduce the incidence of sexually transmitted diseases among adolescents. Priority funding will be given to those entities that demonstrate a strong record of providing abstinence education among adolescents as defined by Section 510(b)(2) of Title V of the Social Security Act, which promotes a strong abstinence until marriage message to youth.

Background

This program, in addition to the mandatory formula Title V Section 510 Abstinence Education Program, has been reassigned from the Health Resources and Services Administration, Maternal and Child Health Bureau, to the Administration for Children and Families, Family and Youth Services Bureau to further fulfill the President's commitment to enhance and coordinate similar youth programs across the Federal government. In addition to supporting the President's goals of enhancing and coordinating similar youth programs across the Federal government, this reassignment closely aligns the abstinence program with comprehensive Positive Youth Development efforts in ACF already underway as well as coordinated welfare reform efforts.

Funding for the Community-Based Abstinence Education Program was appropriated to the Administration for Children and Families (ACF) in the FY 2005 Departments of Labor, Health and Human Services, and Education, and Related Agencies Appropriations Act (Consolidated Appropriation Act) of 2005.

The Community-Based Abstinence Education Program is authorized by Title XI, Section 1110 of the Social Security Act (using the definitions contained in Title V, Section 510(b)(2) of the Act).

Background on the Administration for Children and Families (ACF)

Administration for Children and Families (ACF)

The Administration for Children and Families (ACF), within the Department of Health and Human Services (HHS), is responsible for Federal programs that promote the economic and social well-being of families, children, individuals, and communities. ACF programs aim to:

Empower families and individuals to increase their own economic independence and productivity; build strong, healthy, supportive communities that have a positive impact on the quality of life and the development of children; build partnerships with individuals, front-line service providers, communities, American Indian tribes, Native communities, States, and Congress that enable solutions which transcend traditional agency boundaries; ensure that services are planned, reformed, and integrated to improve needed access; and support a strong commitment to working with people with developmental disabilities, refugees, and migrants to address their needs, strengths, and abilities.

Administration on Children, Youth and Families (ACYF)

The Administration on Children, Youth and Families (ACYF) is one of several primary agencies within the Federal government with the responsibility for serving children and families. ACYF administers national programs for children and youth, provides information and other assistance to parents, works with States and local communities to develop services that support and strengthen family life, and seeks joint ventures with the private sector. The concerns of ACYF extend to all children from birth to adolescence, with a particular emphasis on children with special needs.

Family and Youth Services Bureau (FYSB)

The Family and Youth Services Bureau (FYSB) within ACF will administer the Community-Based Abstinence Education grants, in addition to the Section 510 Abstinence Education mandatory formula grants to States. The mission of FYSB is to provide national leadership on youth issues and to assist individuals and organizations in providing effective, comprehensive services for youth in at-risk situations and their families. The goals of FYSB programs are to provide positive alternatives for youth, ensure their safety, and maximize their potential to take advantage of available opportunities. FYSB encourages communities to support young people through a Positive Youth Development approach. This approach suggests that the best way to prevent young people's involvement in risky behavior is to help them achieve their full potential. As the lead office for the promotion of the Positive Youth Development Strategy within HHS, FYSB administers programs that provide youth with healthy messages about their bodies, their behaviors, and their interactions; provide safe and structured places for youth to study, recreate, and socialize; support positive adult role models such as parents, mentors, coaches or community leaders; promote youth skill development in literacy, competence, work readiness and social and emotional skills; and provide youth with increased opportunities to serve others and build self-esteem. For additional information regarding FYSB programs and initiatives, please visit: http://www.acf.dhhs.gov/programs/fysb/ or the National Clearinghouse on Families and Youth (NCFY) at: http://www.ncfy.com/.

Program Purpose and Scope

The purpose of the Community-Based Abstinence Education Program is to provide support to public and private entities for the development and implementation of abstinence education programs for adolescents, ages 12 through 18, in communities across the country.

The specific objectives of the Community-Based Abstinence Education Program are to:

• Support programmatic efforts that foster the development of abstinence-only education for adolescents, ages 12 through 18, in communities across the country.

• Develop and implement abstinence-only programs that target the prevention of teenage pregnancy and premarital sexual activity.

• Develop abstinence education approaches that are culturally sensitive and age-appropriate to meet the needs of a diverse audience of adolescents, ages 12 through 18.

• Implement community-based educational programs that promote abstinence-until-marriage decisions to adolescents, ages 12 through 18.

Grantees are expected to work closely with ACF to ensure that Community-Based Abstinence Education programs support these objectives. ACF encourages but does not require coordination and collaboration between potential and existing grantees and the State agencies administering a Section 510 Abstinence Education grant. Such coordination and collaboration is considered beneficial in promoting complementary efforts between State and community agencies and advancing positive youth development. A list of Section 510 State Abstinence Education Coordinators is available at http://www.ncfy.com.

A key component of promoting Positive Youth Development is encouraging youth to make the healthiest choice regarding their sexual behavior by abstaining from sexual activity, included but not limited to sexual intercourse, before marriage. Since communicating abstinence education to various target populations requires a number of different approaches, activities may include mentoring, counseling, and adult supervision to promote abstinence from sexual activity. Programs funded through the Community-Based Abstinence Education Program must promote abstinence education as defined by Section 510(b)(2) of Title V of the Social Security Act (for a copy of Sec. 510(b)(2), please see Appendix A). Programs that utilize this definition promote “abstinence Sex education programs that promote the use of contraceptives are not eligible for funding under this announcement.

For purposes of this program, the term “abstinence education” means an educational or motivational program which—

(A) has as its exclusive purpose, teaching the social, psychological, and health gains to be realized by abstaining from sexual activity;

(B) teaches abstinence from sexual activity outside marriage as the expected standard for all school age children;

(C) teaches that abstinence from sexual activity is the only certain way to avoid out-of-wedlock pregnancy, sexually transmitted diseases, and other associated health problems;

(D) teaches that a mutually faithful monogamous relationship in the context of marriage is the expected standard of human sexual activity;

(E) teaches that sexual activity outside of the context of marriage is likely to have harmful psychological and physical effects;

(F) teaches that bearing children out-of-wedlock is likely to have harmful consequences for the child, the child's parents, and society;

(G) teaches young people how to reject sexual advances and how alcohol and drug use increases vulnerability to sexual advances; and

(H) teaches the importance of attaining self-sufficiency before engaging in sexual activity.

Curricula developed or selected for implementation in the Community-Based Abstinence Education grant program must be responsive to the eight elements of the Section 510 abstinence education definition and may not be inconsistent with any aspect of this definition. Curriculum must emphasize the importance of abstaining from sexual activity, included but not limited to sexual intercourse, before marriage and that the healthiest life outcomes are obtained if an individual abstains from sexual activity before marriage. In their Curriculum Summary/Summaries, the applicant must demonstrate that the selected curricula are consistent with each of the eight elements of the Section 510 abstinence education definition. Applicants are required to provide a Curriculum Summary for every curriculum that is to be used in the proposed project. Please see Section IV.2 Content and Form of Application Submission Section for a detailed description. ACF encourages but does not require consultation and collaboration between grantees and the State agencies throughout the life of the project.

In order to ensure access and cultural competence, it is expected that projects will involve individuals from the populations to be served in the planning and implementation of the project. ACF's intent is to ensure that project interventions are responsive to the different needs of special populations, that services are accessible to consumers, and that the broadest possible representation of culturally distinct and historically under represented groups is supported through programs and projects sponsored by ACF.

Grants under this program shall be made to entities which agree that, with respect to an adolescent to whom the entities provide abstinence education under such grant, the entities will not provide to that adolescent any other education regarding sexual conduct, except in the case of an entity expressly required by law to provide health information or services. Each adolescent shall not be precluded from seeking health information or services from the entity in a different setting—either in time or place—than the setting in which abstinence education was provided. Nothing shall preclude entities that have a public health mandate from discussing other forms of sexual conduct or providing services, as long as this is conducted in a different setting—either in time or place—than where and when the abstinence-only course is being conducted. ACF strongly encourages grantees to sign and submit with their applications the voluntary assurance that speaks to this separation of Federal abstinence education services and private abstinence and/or sex education services. Please see Section IV. 2 Content and Form of Application Submission and Appendix B for a full description.

In order to ensure that grantees are geographically well distributed, special consideration may be given to highly ranked applications in States (and territories) that do not have a currently funded Community-Based Abstinence Education grant or where the State's only Community-Based grantee is in its last year of funding.

Legislative Authority: The Community-Based Abstinence Education Program is authorized by Title XI, Section 1110 of the Social Security Act (using the definitions contained in Title V, Section 510(b)(2) of the Act).

II. Award Information

Funding Instrument Type: Service Grants.

Anticipated Total Priority Area Funding: $36,823,000.

Anticipated Number of Awards: 60 to 70.

Ceiling on Amount of Individual Awards per Budget Period: $800,000.

Floor on Amount of Individual Awards per Budget Period: $200,000.

Average Projected Award Amount Per Budget Period: $459,000.

III. Eligibility Information

1. Eligible Applicants

State governments, County governments, City or township governments, Independent school districts, Hospitals and Clinics, State controlled institutions of higher education, Native American tribal governments (Federally recognized), Public Housing authorities/Indian housing authorities, Native American tribal organizations (other than Federally recognized tribal governments), Non-profits having a 501(c)(3) status with the IRS, other than institutions of higher education, Private institutions of higher education, and For-profit organizations other than small businesses.

Additional Information on Eligibility

Faith-based and community organizations are eligible to apply.

These grants must be made only to public and private entities who agree that, with respect to an adolescent to whom the entities provide abstinence education under such grant, the entities will not provide to that adolescent any other education regarding sexual conduct, except, in the case of an entity expressly required by law to provide health information or services. ACF strongly encourages applicants to sign and submit with their applications the voluntary assurance that speaks to this requirement. Please see Section IV.2 Content and Form of Application Submission and Appendix B for a detailed description.

ACF strongly encourages and will grant preference to those applicants that demonstrate they have extensive previous experience providing Abstinence Education Services that conform to the eight criteria defined by Section 510(b)(2) of Title V of the Social Security Act. Sex education programs that promote the use of contraceptives are not eligible for funding under this announcement; however, this eligibility criterion will not be used as a disqualification factor in the initial review of applications.

2. Cost Sharing/Matching

None.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 Submission Dates and Times will be considered non-responsive and will not be considered for funding under this announcement.

IV. Application and Submission Information

1. Address to Request Application Package

ACYF Operations Center, c/o The Dixon Group, Attn: Community-Based Abstinence Education Program Funding, 118 Q Street NE., Washington, DC 20002-2132. Phone: 866-796-1591.

2. Content and Form of Application Submission

Each application package should include an original and two copies. Do not staple the applications.

The length of the entire application package should not exceed 80 pages. This includes the required Federal forms/certifications (424, 424a, 424b, Lobbying and Smoke Free Workplace certification), table of contents, project summary, curricula summaries, project description, budget/budget justification, supplemental documentation, proof of non-profit status, third party agreement summaries and letters of support or agreement. All pages of the application package should be sequentially numbered beginning with page one. The required Federal forms will be counted towards the total number of pages. Each application will be counted to determine the total length. Cover letters are not required. Applicants are reminded that if a cover letter is submitted, it will count towards the 80 page limit.

The project description should be typed and double-spaced on a single-side of 8½ x 11 plain white paper with at least 1 inch margins on all sides, using black print Times New Roman, with 12 pitch or 12 point size font. For charts, budget tables, supplemental letters and support documents, applicants may use a different pitch or size font, not less than 10 pitch or size font, or single-space. Please see Section V.1 Criteria, for instructions on preparing the full project description.

Curricula Summaries

Curricula developed or selected for implementation in the Community-Based Abstinence Education grant program must be responsive to the eight elements of the Section 510 abstinence education definition and may not be inconsistent with any aspect of that definition. Curriculum must emphasize the importance of abstaining from sexual activity before marriage and that the healthiest life outcomes are obtained if an individual abstains from sexual activity before marriage. In their Curriculum Summary/Summaries, the applicant must demonstrate that the selected curricula are consistent with each of the eight elements of the Section 510 abstinence education definition. Applicants are required to provide a Curriculum Summary for every curriculum that is to be used in the proposed project.

Direct Federal grants, sub-award funds, or contracts under this Community-Based Abstinence Education Program shall not be used to support inherently religious activities such as religious instruction, worship, or proselytization. Therefore, organizations must take steps to separate, in time or location, their inherently religious activities from the services funded under this Program. Regulations pertaining to the Equal Treatment for Faith-based Organizations, which includes the prohibition against Federal funding of inherently religious activities, can be found at either 45 CFR 87.1 or the HHS Web site at http://www.os.dhhs.gov/fbci/waisgate21.pdf.

Appendices

Appendices should include all supporting documentation, such as: Position descriptions, curricula vitae (CVs), letters of agreement and support, evaluation tools, protocols and tables and graphs. Job descriptions and CV's should not exceed two pages each. Spacing will vary depending on the nature of the appendix, but only one-sided pages are acceptable. Appendices should be brief and supplemental in nature. Do not include pamphlets or brochures in the application package unless they were specifically created for the project. Refer to style and format section of this guidance for specific conventions to be followed in formatting appendices.

The appendices should be brief and should be limited to the items listed below, in the following order:

i. Descriptions of committees/consortia which are a part of or related to the basic program, including the composition, function, and responsibilities of each.

ii. Copies of agreements/commitments, letters of understanding or similar documents defining the relationships between the proposed program and affiliated departments, institutions or agencies, and the responsibilities of each. Pro-forma letters of endorsement should not be included.

iii. Position descriptions for all professional and technical positions for which grant support is requested, and for similar positions with significant roles in the program, even though supported from other sources.

iv. Biographical sketches, such as resumes or CVs, for each incumbent in a position for which a job description is submitted.

You may submit your application to us in either electronic or paper format. To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application should comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

An original and two copies of the complete application are required. The original and each of the two copies should include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications: The project description should include all the information requirements described in the specific evaluation criteria outlined in the program announcement under Section V. Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Voluntary Assurance

ACF strongly encourages grantees to sign and submit with their applications the voluntary assurance that prohibits Community-Based Abstinence Education grantees from providing to an adolescent and/or adolescents any other education regarding sexual conduct—either in time or place—except, in the case of an entity expressly required by law to provide health information or services. Please see Section I. Funding Opportunity Description and Appendix B for a full description.

Logic Model: A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

ACF encourages applicant organizations to use a logic model in developing their applications.

Those organizations required to provide proof of non-profit status, please refer to Section III.3.

3. Submission Dates and Times

The closing time and date for receipt of applications is 4:30 p.m. (Eastern Time Zone) on the date noted above. Mailed or hand carried applications received after 4:30 p.m. on the closing date will be classified as late.

Deadline: Mailed applications shall be considered as meeting an announced deadline if they are received on or before the deadline time and date at the ACYF Operations Center, c/o The Dixon Group, Inc., ATTN: Family and Youth Services Bureau, Community-Based Abstinence Education Program Funding 118 Q Street NE., Washington, DC 20002-2132. Applicants are responsible for mailing applications well in advance, when using all mail services, to ensure that the applications are received on or before the deadline time and date.

Applications hand-carried by applicants, applicant couriers, other representatives of the applicant, or by overnight/express mail couriers shall be considered as meeting an announced deadline if they are received on or before the deadline date, between the hours of 8 a.m. and 4:30 p.m., EST, at the ACYF Operations Center, c/o The Dixon Group, Inc., ATTN: Family and Youth Services Bureau, Community-Based Abstinence Education Program Funding, 118 Q Street NE., Washington, DC 20002-2132, between Monday and Friday (excluding Federal holidays). This address must appear on the envelope/package containing the application with the note. Applicants are cautioned that express/overnight mail services do not always deliver as agreed.

Late applications: Applications which do not meet the criteria above are considered late applications. ACF shall notify each late applicant that its application will not be considered in the current competition. Any application received after 4:30 pm on the deadline date will not be considered for competition. Applicants using express/overnight mail services should allow two working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

What to submit | Required content | Required form or format | When to submit
Project Abstract | See Sections IV.2 and V | Found in Sections IV.2 and V | By application due date.
Project Description | See Sections IV.2 and V | Found in Sections IV.2 and V | By application due date.
Curriculum Summaries | See Section I and IV.2 | Found in Sections I and IV.2 | By application due date.
Budget Narrative/Justification | See Sections IV.2 and V | Found in Sections IV.2 and V | By application due date.
SF 424 | See Section IV.2 | See http://www.acf.hhs.gov/programs/ofs/forms.htm | By application due date.
SF 424 A | See Section IV.2 | See http://www.acf.hhs.gov/programs/ofs/forms.htm | By application due date.
SF 424 B | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Voluntary Assurance | See Section I, III, and IV.2 | Found in Section I, III, and IV.2 | By application due date.
Table of Contents | See Section IV.2 | Found in Section IV.2 | By application due date.
Support Letters (if applicable) | See Sections IV.2 and V.1 | Found in Section IV.2 and V.1 | By date of award.
Other: 3rd Party Agreements | See Sections IV.2 and V.1 | Found in Section IV.2 and V.1 | By date of award.
Proof of Non-Profit Status | See Section III.3 | Found in Section III.3 | By date of award.
Appendices (if applicable) | See Section IV.2 | Found in Section IV.2 | By date of award.

Additional Forms

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | Found in http://www.acf.hhs.gov/programs/ofs/forms.htm | By application due date.

4. Intergovernmental Review

This program is not subject to Executive Order 12372, “Intergovernmental Review of Federal Programs,” or 45 CFR Part 100, “Intergovernmental Review of Department of Health and Human Services Programs and Activities”.

5. Funding Restrictions

Grant awards will not allow reimbursement of pre-award costs.

Construction is not an allowable activity or expenditure under this solicitation.

Applicants should note that grants to be awarded under this program announcement are subject to the availability of funds. The size of the actual awards will vary.

Sex education programs that promote the use of contraceptives are not eligible for funding under this announcement.

In order to ensure that grantees are geographically well distributed, special consideration may be given to highly ranked applications in States (and territories) that do not have a currently funded Community-Based Abstinence Education grant, or, where the State's only Community-Based grantee is in its last year of funding.

6. Other Submission Requirements

Submission by Mail: An applicant must provide an original application with all attachments, signed by an authorized representative and two copies. Please see Section IV.3 Submission Dates and Times for an explanation of due dates. Applications should be mailed to: ACYF Operations Center, c/o The Dixon Group, Attn: Community-Based Abstinence Education Program Funding, 118 Q Street NE., Washington, DC 20002-2132.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: ACYF Operations Center, c/o The Dixon Group, Attn: Community-Based Abstinence Education Program Funding, 118 Q Street NE., Washington, DC 20002-2132.

Electronic Submission: http://www.Grants.gov. Please see Section IV.2 Content and Form of Application Submission for guidelines and requirements when submitting applications electronically.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Staff and Position Data

Provide a biographical sketch and job description for each key person appointed. Job descriptions for each vacant key position should be included as well. As new key staff is appointed, biographical sketches will also be required.

Plan for Project Continuance Beyond Grant Support

Provide a plan for securing resources and continuing project activities after Federal assistance has ended.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; (e) any of the items immediately above for a State or national parent organization and a statement signed by the parent organization that the applicant organization is a local non-profit affiliate.

Third-Party Agreements

Provide written and signed agreements between grantees and sub grantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide a budget with line-item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs. The Project Director is required to attend an annual grantees meeting in Washington, DC for three days and two nights. The applicant's project budget should reflect this requirement.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel). This budget line item should only include travel outside the State and should not include local travel.

Justification: For each trip, show the total number of traveler(s), travel destination, duration of trip, per diem, mileage allowances, if privately owned vehicles will be used, and other transportation costs and subsistence allowances. Travel costs for key staff to attend ACF-sponsored workshops should be detailed in the budget.

Equipment

Supplies

Description: Costs of all tangible personal property other than that included under the Equipment category. Only equipment greater than $5,000 should be included in this section. All items under $5,000 per unit are not considered equipment and should be placed under line item supplies.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and sub recipients, other than States that are required to use CFR Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Indirect Charges

Description: Total amount of indirect costs. This category should be used only when the applicant currently has an indirect cost rate approved by the Department of Health and Human Services (HHS) or another cognizant Federal agency. Copies of any indirect cost agreements should be included with the application.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Total Direct Charges, Total Indirect Charges, Total Project Costs

Evaluation Criteria

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Objectives and Need for Assistance 30 Points

• The extent to which the application describes the current physical, economic, social, financial, governmental, and institutional challenges and problems that support the funding request. The extent to which the application describes how the project addresses the needs of youth in the proposed area(s). Statistical data and other information should be provided to support the need. The extent to which the application describes the proposed project objectives, goals, and strategies and that objectives are measurable and support the identified need. The extent to which the objectives, goals, and strategies are related to the overall FYSB goals and objectives as stated in Section I. Funding Opportunity Description Section.

• The extent to which the application is responsive to all eight elements of the legislative definition, as defined in Section 510 of Title V of the Social Security Act, and the extent to which the proposed project methodology describes a community-based educational intervention to promote abstinence education to adolescents ages 12 through 18. The extent to which the proposed project activities address the specific objectives listed in Section I. Funding Opportunity Description.

• The extent to which the application describes the target population and subsets (if applicable), as well as their relative needs and culture. The extent to which the proposed activities are sensitive to the age and cultural needs of the specified population(s).

• The extent to which the project describes adolescent and consumer/family participation in the planning and implementation of proposed program activities.

• The extent to which the application describes the agency's positive youth development philosophy and approach and how it integrates that approach into all proposed activities and services provided by the agency. The extent to which specific information on how the youth and the community will be involved in evaluating the project.

• The extent to which the application describes how this project will be structured and managed and defines how the project is being conducted in a manner consistent with FYSB goals and objectives. The extent to which the application describes contributions of organizations, cooperating entities, consultants, or other key individuals who will work on the project.

• The extent to which the application describes a project implementation plan and the methodology or models to be used for the abstinence education services. The extent to which the plan is results oriented and relates to the goals and objectives in Section I. Funding Opportunity Description The extent to which the plan indicates how the project will expand opportunities for skill-development and describes the safety precautions that will be in place to prevent incidents which may pose a health or safety risk.

• The extent to which the application describes how the project will form collaborations among private, non-profit, community, state, local, and Federal entities necessary to carry out the project.

• The extent to which the application provides third party agreement summaries or letters of agreement (as appropriate) that detail the scope of the work to be performed and any other terms and conditions that structure or define the relationship. If written agreements do not exist, sample or draft agreements may be submitted.

• The extent to which the application describes potential barriers that may affect project implementation and possible resolution of these difficulties.

Approach 25 Points

The extent to which activities or steps proposed will accomplish the specified goals and objectives of the proposed project.

The extent to which the application provides a detailed description of the mechanisms to be used, the specific activities to be conducted, and clearly indicates how these will lead to the accomplishment of the intended goals and objectives, as they were stated in Section I. Funding Opportunity Description. The extent to which the applicant demonstrates that proposed activities are age-appropriate and culturally sensitive to the age, race and culture of the target population.

The extent to which the application includes a timeline that describes each activity and identifies responsible staff that will work to support these activities.

Budget and Budget Justification 15 Points

1. The extent to which the application describes how the funds requested, which may include Federal and non-Federal funds, will be used for abstinence education services that are allowed under this announcement. The extent to which the budget items show how the expenditures will assist the applicant in achieving the project goals.

2. The extent to which the applicant's budget describes detailed calculations that show how the line-item costs are derived. These costs should include quantities, unit costs, and other similar quantitative detail. If applicable, sub-contractor budgets for third party agreements are provided in the budget detail. The sub-contractor budget should provide the same quantitative detail as the applicant.

3. The extent to which the application describes the fiscal controls and accounting procedures. The extent to which the application describes how the controls and procedures will be used to ensure prudent use, proper disbursement and accurate accounting of funds received as well as accounts for non-Federal resources.

Results or Benefits Expected 15 Points

1. The extent to which the application describes specific measurable outcomes and how they will be achieved.

2. The extent to which the application describes how the intended audience will be impacted and describes the extent to which improvements in youth development will occur.

Staff and Position Data 15 Points

The extent to which the application provides information on the applicant agency's current mission and structure, the cope of current activities, and an organizational chart, and describes how these all contribute to the ability of the organization to conduct the Community-Based Abstinence Education Program Grant requirements and meet program expectations. The extent to which the application describes the administrative and organizational structure within which the project will function. The extent to which the application includes organizational charts that outlining the structure. The extent to which the application demonstrates that project staff will be supervised and project contracts and activities will be monitored. The extent to which the application provides a biographical sketch and job description for each key person appointed, showing how each person has a demonstrated history of experience providing abstinence until marriage education. The extent to which job descriptions for each vacant key position are included in the application. The extent to which the application includes biographical sketches as new and/or key staff are appointed.

The extent to which the application demonstrates organizational experience in working with adolescents to promote abstinence education.

Additional Bonus Points 5 Points

The extent to which the application demonstrates that the applicant has extensive previous experience in providing abstinence education among adolescents as defined by Section 510(b)(2) of the Social Security Act, which promotes a strong “abstinence” until marriage youth message.

2. Review and Selection Process

Since ACF will be using non-Federal reviewers in the review process, applicants have the option of omitting from the application copies (not the original) of specific salary rates or amounts for individuals specified in the application budget.

No grant award will be made under this announcement on the basis of an incomplete application.

All applications which are complete and conform to the requirements of this program announcement will be subject to a competitive review and evaluation based on the specific competitive evaluation criteria. This review will be conducted in Washington, DC by a panel of experts knowledgeable in the areas of abstinence education, youth development, and social/human services.

ACF strongly encourages and will grant preference to those applicants that demonstrate they have extensive previous experience providing Abstinence Education Services that conform to the eight criteria defined by Section 510(b)(2) of Title V of the Social Security Act.

Application review panels will assign a score (maximum score of 105) to each application. The panel will identify the application's strengths and weaknesses based on the application's responsiveness to the evaluation criteria.

In order to ensure that grantees are geographically well distributed, special consideration may be given to highly ranked applications in States (and territories) that do not have a currently funded Community-Based Abstinence Education grant, or, where the State's only Community-Based grantee is in its last year of funding.

Approved but Unfunded Applications

Applications that are approved but unfunded may be held over for funding in the next funding cycle, pending the availability of funds, for a period not to exceed one year.

3. Anticipated Announcement and Award Dates

Applications will be reviewed in the Spring of 2005. Grant awards will have a start date no later than September 30, 2005.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Direct Federal grants, sub-award funds, or contracts under this Community-Based Abstinence Education Program shall not be used to support inherently religious activities such as religious instruction, worship, or proselytization. Therefore, organizations must take steps to separate, in time or location, their inherently religious activities from the services funded under this Program. Regulations pertaining to the Equal Treatment for Faith-based Organizations, which includes the prohibition against Federal funding of inherently religious activities, can be found at either 45 CFR 87.1 or the HHS web site at http://www.os.dhhs.gov/fbci/waisgate21.pdf.

45 CFR Part 74

45 CFR Part 92

Grantees are subject to the requirements in 45 CFR Part 74 (non-governmental) or 45 CFR Part 92 (governmental) organizations.

Grantees may be asked to participate in a national evaluation of the Community-Based Abstinence Education program. The grantee will cooperate with any research or evaluation efforts sponsored by the Administration for Children and Families (ACF).

3. Reporting Requirements

All grantees are required to submit semi-annual (quarterly or annual) program reports; grantees are also required to submit semi-annual expenditure reports using the required financial standard form (SF-269) which can be found at the following URL: http://www.acf.hhs.gov/programs/ofs/forms.htm.

Final reports are due 90 days after the end of the grant period.

Programmatic Reports: Semi-Annually.

Financial Reports: Semi-Annually.

VII. Agency Contacts

Program Office Contact

Jeffrey Trimbath, Family and Youth Services Bureau, 118 Q Street, NW., Washington, DC 20002-2132. Phone: 1-866-796-1591. E-mail: fysb@dixongroup.com.

Grants Management Office Contact

Peter Thompson, Grants Officer, ACYF Grants Office, 118 Q Street, NW., Washington, DC 20002-2132. Phone: 1-866-796-1591. E-mail: fysb@dixongroup.com.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Applicants will be sent acknowledgements of received applications.

Dated: May 16, 2005.
Joan E. Ohl,
Commissioner, Administration on Children, Youth and Families.

Appendix A—Section 510 of Title V of the Social Security Act

SEC. 510. [42 U.S.C. 710] (a) For the purpose described in subsection (b), the Secretary shall, for fiscal year 1998 and each subsequent fiscal year, allot to each State which has transmitted an application for the fiscal year under section 505(a) an amount equal to the product of:

(1) The amount appropriated in subsection (d) for the fiscal year; and

(2) The percentage determined for the State under section 502(c)(1)(B)(ii).

(b)(1) The purpose of an allotment under subsection (a) to a State is to enable the State to provide abstinence education, and at the option of the State, where appropriate, mentoring, counseling, and adult supervision to promote abstinence from sexual activity, with a focus on those groups which are most likely to bear children out-of-wedlock.

(2) For purposes of this section, the term “Abstinence Education” means an educational or motivational program which:

(A) Has as its exclusive purpose, teaching the social, psychological, and health gains to be realized by abstaining from sexual activity;

(B) Teaches abstinence from sexual activity outside marriage as the expected standard for all school age children;

(C) Teaches that abstinence from sexual activity is the only certain way to avoid out-of-wedlock pregnancy, sexually transmitted diseases, and other associated health problems;

(D) Teaches that a mutually faithful monogamous relationship in the context of marriage is the expected standard of human sexual activity;

(E) Teaches that sexual activity outside of the context of marriage is likely to have harmful psychological and physical effects;

(F) Teaches that bearing children out-of-wedlock is likely to have harmful consequences for the child, the child's parents, and society;

(G) Teaches young people how to reject sexual advances and how alcohol and drug use increases vulnerability to sexual advances; and

(H) The importance of attaining self-sufficiency before engaging in sexual activity.

(c)(1) Sections 503, 507, and 508 apply to allotments under subsection (a) to the same extent and in the same manner as such sections apply to allotments under section 502(c).

(2) Sections 505 and 506 apply to allotments under subsection (a) to the extent determined by the Secretary to be appropriate.

(d) For the purpose of allotments under subsection (a), there is appropriated, out of any money in the Treasury not otherwise appropriated, an additional $50,000,000 for each of the fiscal years 1998 through 2002.

The appropriation under the preceding sentence for a fiscal year is made on October 1 of the fiscal year.

Appendix B—Voluntary Assurance

As the authorized individual signing this grant application on behalf of (name of applicant), I hereby attest and certify that (name of applicant organization), while administering Federal and/or non-Federal funds under the Community-Based Abstinence Education Program, will not provide to an adolescent and/or adolescents any other education regarding sexual conduct, except that, in the case of an entity expressly required by law to provide health information or services. In this circumstance, health information or services (expressly required by law) must be conducted in a different setting—either in time or place—than where and when the abstinence-only course is being conducted.

Date

Printed Name of Authorized Individual

Signature of Authorized Individual

[FR Doc. 05-10105 Filed 5-19-05; 8:45 am]

BILLING CODE 4184-01-P